DEPARTMENT OF JUSTICE

Drug Enforcement Administration

Manufacturer of Controlled Substances; Notice of Application

Pursuant to Section 1301.33(a) of Title 21 of the Code of Federal Regulations (CFR), this is notice that on June 20, 2003, and September 2, 2003, Cody Laboratories, Inc., 331 33rd Street, Cody, Wyoming 82414, made application by renewal to the Drug Enforcement Administration (DEA) for registration as a bulk manufacturer of the basic classes of controlled substances listed below:

Drug | Schedule
Amphetamine (1100) | Schedule II
Methamphetamine (1105) | Schedule II
Amobarbital (2125) | Schedule II
Pentobarbital (2270) | Schedule II
Secobarbital (2315) | Schedule II
Oxycodone (9143) | Schedule II
Hydromorphone (9150) | Schedule II
Diphenoxylate (9170) | Schedule II
Meperidine (9230) | Schedule II
Oxymorphone (9652) | Schedule II
Sufentanil (9740) | Schedule II
Fentanyl (9801) | Schedule II

The firm plans to manufacture bulk materials for distribution to its customers.

Any other such applicant and any person who is presently registered with DEA to manufacture such substances may file comments or objections to the issuance of the proposed registration. Any such comments or objections may be addressed, in quintuplicate, to the Deputy Assistant Administrator, Office of Diversion Control, Drug Enforcement Administration, United States Department of Justice, Washington, DC 20537, Attention: DEA Federal Register Representative (CCD) and must be filed no later than December 29, 2003.

Dated: October 7, 2003.
Laura M. Nagel,
Deputy Assistant Administrator, Office of Diversion Control, Drug Enforcement Administration.

[FR Doc. 03-27238 Filed 10-28-03; 8:45 am]

BILLING CODE 4410-09-M